DEPARTMENT OF ENERGY

Federal Energy Regulatory Commission

[Docket No. AD21-10-000]

Modernizing Electricity Market Design; Supplemental Notice of Technical Conference on Energy and Ancillary Services in the Evolving Electricity Sector

As first announced in the Notice of Technical Conference issued in this proceeding on July 14, 2021, the Federal Energy Regulatory Commission (Commission) will convene a staff-led technical conference in the above-referenced proceeding on September 14, 2021, from approximately 9:00 a.m. to 5:00 p.m. Eastern time. The conference will be held remotely. This Supplemental Notice includes an updated pending proceedings list and attached is an agenda for the technical conference, which includes the final conference program and updated speaker list. Commissioners may attend and participate in the technical conference.

Discussions at the conference may involve issues raised in proceedings that are currently pending before the Commission. These proceedings include, but are not limited to:

| Docket No.
California Independent System Operator Corporation | ER21-2455-000.
California Independent System Operator Corporation | ER21-2779-000.
New York Independent System Operator, Inc | ER21-2460-000.
PJM Interconnection, L.L.C | ER21-1919-000.
PJM Interconnection, L.L.C | EL21-78-000, et al.
PJM Interconnection, L.L.C | EL19-58, et al.; ER19-1486, et al.
PJM Interconnection, L.L.C | ER21-2582-000.
Midcontinent Independent System Operator, Inc | ER21-2620-000.
Midcontinent Independent System Operator, Inc | ER21-2486-000; ER21-2487-000.
Midcontinent Independent System Operator, Inc | ER21-2720-000.
Midcontinent Independent System Operator, Inc | ER21-2801-000.
Midcontinent Independent System Operator, Inc | ER21-2797-000.

The conference will be open for the public to attend remotely. There is no fee for attendance. Information on this technical conference, including a link to the webcast, will be posted on the conference's event page on the Commission's website (https://www.ferc.gov/news-events/events/technical-conference-regarding-energy-and-ancillary-services-markets-09142021) prior to the event. The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Emma Nicholson at emma.nicholson@ferc.gov or (202) 502-8741, or Alexander Smith at alexander.smith@ferc.gov or (202) 502-6601. For legal information, please contact Adam Eldean at adam.eldean@ferc.gov or (202) 502-8047. For information related to logistics, please contact Sarah McKinley at sarah.mckinley@ferc.gov or (202) 502-8368. This notice is issued and published in accordance with 18 CFR 2.1.

Dated: September 13, 2021.
Kimberly D. Bose,
Secretary.

[FR Doc. 2021-20136 Filed 9-16-21; 8:45 am]

BILLING CODE 6717-01-P